DEPARTMENT OF ENERGY

Federal Energy Regulatory Commission

18 CFR Parts 154, 161, 250, and 284

[Docket Nos. RM98-10-002 and RM98-12-002]

Regulation of Short-Term Natural Gas Transportation Services and Regulation of Interstate Natural Gas Transportation Services

Issued April 12, 2000.

AGENCY: Federal Energy Regulatory Commission, DOE.

ACTION: Final rule; order extending time for compliance filings.

SUMMARY: The Federal Energy Regulatory Commission is extending the time for pipelines to make filings to comply with Order No. 637 relating to regulation of short-term natural gas transportation services and regulation of interstate natural gas transportation services which was published in the Federal Register of February 25, 2000.

DATES: Pipeline compliance filings will be due on June 15, 2000, July 17, 2000, and August 15, 2000, according to the schedule set out in SUPPLEMENTARY INFORMATION.

ADDRESSES: Federal Energy Regulatory Commission, 888 First Street, NE., Washington DC, 20426.

FOR FURTHER INFORMATION CONTACT:

Michael Goldenberg, Office of the General Counsel, Federal Energy Regulatory Commission, 888 First Street, NE., Washington, DC 20426, (202) 208-2294; and

Robert A. Flanders, Office of Markets, Tariffs, and Rates Federal Energy Regulatory Commission, 888 First Street, NE., Washington, DC 20426, (202) 208-2084.

SUPPLEMENTARY INFORMATION:

Order Extending Time for Compliance

On February 9, 2000, The Federal Energy Regulatory Commission (Commission) issued Order No. 637 ¹ that, among other things, required pipelines to file pro forma tariff sheets on May 1, 2000, to comply with the adopted regulations. Shippers were given 30 days to file comments or protests. The Commission is extending the time for filing and staggering the compliance schedule.

¹ Regulation of Short-Term Natural Gas Transportation Services and Regulation of Interstate Natural Gas Transportation Services, 65 FR 10156 (Feb. 25, 2000), III FERC Stats. & Regs. Regulations Preambles ¶ 31,091 (Feb. 9, 2000).

On March 10, 2000, the Pipeline Transportation Customer Coalition ² filed a motion requesting the Commission to extend the filing of the pro forma tariff sheets beyond the May 1, 2000 date. They contend the Commission should adopt a staggered schedule to provide customers on multiple pipelines with the opportunity to effectively respond to the pipeline filings. They also request an extension of the time within which to prepare comments or protests to 45 days.

² Independent Petroleum Association of America, Process Gas Consumers Group, American Iron and Steel Institute, Georgia Industrial Group, American Forest & Paper Association, Alcoa, Inc., United States Gypsum Company, Dynegy Marketing and Trade, Natural Gas Supply Association, American Public Gas Association, Pennsylvania Office of Consumer Advocate, Ohio Consumers' Counsel, and National Association of State Utility Consumer Advocates.

The Commission is extending and staggering the schedule for pro forma compliance filings to provide shippers an opportunity to fully respond to each pipeline filing. The revised schedule is set out below. The Commission denies the request to extend the time period for comments. Given the staggered schedule, shippers should be able to file comments within the 30 day period.

The pipelines listed below are to make their pro forma tariff filing by the date indicated:

Pipelines To File on June 15, 2000

Algonquin Gas Transmission Co.

Algonquin LNG, Inc.

ANR Pipeline Co.

ANR Storage Co.

Arkansas Western Pipeline Co., LLC

Black Marlin Pipeline Company

Blue Lake Gas Storage Co.

Canyon Creek Compression Co.

Caprock Pipeline Co.

Carnegie Interstate Pipeline Co.

Chandeleur Pipe Line Company

CNG Transmission Corp.

Colorado Interstate Gas Co.

Columbia Gas Transmission Corp.

Columbia Gulf Transmission Co.

Crossroads Pipeline Co.

Dauphin Island Gathering Partnership

Destin Pipeline Company, LLC

Discovery Gas Transmission, LLC

Dynegy Midstream Pipeline, Inc

East Tennessee Natural Gas Co.

Egan Hub Partners, L.P.

El Paso Natural Gas Co.

Garden Banks Gas Pipeline, LLC

Great Lakes Gas Transmission, L.P.

Kansas Pipeline Co.

Kinder Morgan Interstate Gas

Transmission, LLC

Kern River Gas Transmission Co.

KN Wattenberg Transmission, L.L.C.

Koch Gateway Pipeline Co.

MIGC, Inc.

Mojave Pipeline Co.

Pipelines To File on July 17, 2000

Eastern Shore Natural Gas Co.

Equitrans, L.P.

Florida Gas Transmission Co.

Gas Transport, Inc.

Granite State Gas Transmission Corp.

Gulf States Transmission Corp.

High Island Offshore System, LLC

Iroquois Gas Transmission System

KO Transmission Co.

Maritimes & Northeast Pipeline Co.

Michigan Gas Storage Co.

Mid Louisiana Gas Co.

Midcoast Interstate Transmission Co.

Midwestern Gas Transmission Co.

Mississippi Canyon Gas Pipeline, LLC

Mississippi River Transmission Co.

National Fuel Gas Supply Corp.

Natural Gas Pipeline Co. of America

Nautilus Pipeline Company, LLC

Nora Transmission Co.

Norteno Pipeline Co.

Northern Border Pipeline Co.

Northern Natural Gas Co.

Northwest Pipeline Corp.

OkTex Pipeline Co.

Overthrust Pipeline Co.

Ozark Gas Transmission, LLC

Pacific Interstate Offshore Co.

Paiute Pipeline Co.

Panhandle Eastern Pipe Line Co.

PG&E Gas Transmission, Northwest

Pine Needle LNG Company, LLC

Questar Pipeline Co.

Pipelines To File on August 15, 2000

Cove Point LNG, L.P.

Petal Gas Storage Co.

Portland Natural Gas Transmission Corp.

Reliant Energy Gas Transmission Corp.

Sabine Pipe Line Co.

Sea Robin Pipeline Company

South Georgia Natural Gas Co.

Southern Natural Gas Co.

Southwest Gas Storage Company

Steuben Gas Storage Co.

Stingray Pipeline Company

TCP Gathering Co.

Tennessee Gas Pipeline Co.

Texas Eastern Transmission Corp.

Texas Gas Transmission Corp.

Texas-Ohio Pipeline, Inc.

Total Peaking Services, LLC

Trailblazer Pipeline Co.

TransColorado Gas Transmission

Transcontinental Gas Pipe Line Co.

Transwestern Pipeline Co.

Trunkline Gas Co.

Trunkline LNG Co.

Tuscarora Gas Transmission Co.

USG Pipeline Company

U-T Offshore System, LLC

Venice Gathering System, LLC

Viking Gas Transmission Co.

WestGas InterState, Inc.

Western Gas Interstate Co.

Williams Gas Pipelines Central

Williston Basin Interstate Pipeline Co.

Wyoming Interstate Company, Ltd.

Young Gas Storage Company, Ltd.

Any interstate pipeline providing Part 284 service that is not included in this list is required to make its pro forma compliance filing on August 15, 2000.

By the Commission.
David P. Boergers,
Secretary.

[FR Doc. 00-9629 Filed 4-18-00; 8:45 am]

BILLING CODE 6717-01-P